DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care Medicine and Dentistry.

Date and Time: September 6, 2007, 8:30 a.m.—4:30 p.m. and September 7, 2007, 8 a.m.—2 p.m.

Place: Hilton Washington, DC/Rockville Executive Meeting Center, 1750 Rockville Pike, Rockville, Maryland 20852.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will work on its seventh report on the topic of primary care providing a medical/dental home within the health care system. The report will be submitted to Congress and to the Secretary of the Department of Health and Human Services.

Agenda: The meeting on Thursday, September 6 will begin with opening comments from the Chair of the Advisory Committee and introductory remarks from senior management of the Health Resources and Services Administration. Several speakers will address the topic of patient-centered medical/dental home as a model for health care and training requirements for primary care practitioners. An opportunity will be provided for professional organizations to give comment on the topic. In both small groups and in the plenary session, the Advisory Committee will work on various parts of the report. An opportunity will be provided for public comment.

On Friday, September 7, the Advisory Committee will continue work on the seventh report in small groups and in the plenary session. The Advisory Committee will plan next steps in the report preparation process. An opportunity will be provided for public comment.

FOR FURTHER INFORMATION CONTACT: Anyone interested in obtaining a roster of members or other relevant information should write or contact Jerilyn K. Glass, M.D., Ph.D., Division of Medicine and Dentistry, Bureau of Health Professions, Health Resources and Services Administration, Room 9A-27, Parklawn Building, 5600 Fishers Lane, Rockville, Maryland 20857, Telephone (301) 443-6785. The Web address for information on the Advisory Committee is http://bhpr.hrsa.gov/medicine-dentistry/actpcmd.

Dated: July 26, 2007.
Alexandra Huttinger,
Acting Director, Division of Policy Review and Coordination.

[FR Doc. E7-15100 Filed 8-2-07; 8:45 am]

BILLING CODE 4165-15-P